DEPARTMENT OF COMMERCE

National Oceanic and Atmospheric Administration

50 CFR Part 679

[Docket No. 070213032-7032-01]

RIN 0648-XC91

Fisheries of the Exclusive Economic Zone Off Alaska; Pollock in Statistical Area 630 in the Gulf of Alaska

AGENCY: National Marine Fisheries Service (NMFS), National Oceanic and Atmospheric Administration (NOAA), Commerce.

ACTION: Temporary rule; modification of a closure.

SUMMARY: NMFS is opening directed fishing for pollock in Statistical Area 630 in the Gulf of Alaska (GOA). This action is necessary to fully use the C season allowance of the 2007 total allowable catch (TAC) of pollock in Statistical Area 630 in the GOA.

DATES: Effective 1200 hrs, Alaska local time (A.l.t.), September 25, 2007, through 1200 hrs, A.l.t., December 31, 2007. Comments must be received at the following address no later than 4:30 p.m., A.l.t., October 10, 2007.

ADDRESSES: Send comments to Sue Salveson, Assistant Regional Administrator, Sustainable Fisheries Division, Alaska Region, NMFS, Attn: Ellen Sebastian. Comments may be submitted by:

• Mail to: P.O. Box 21668, Juneau, AK 99802;

• Hand delivery to the Federal Building, 709 West 9th Street, Room 420A, Juneau, Alaska;

• FAX to 907-586-7557;

• E-mail to inseason-fakr@noaa.gov and include in the subject line of the e-mail the document identifier: g63plkro5.fo.wpd (E-mail comments, with or without attachments, are limited to 5 megabytes).

FOR FURTHER INFORMATION CONTACT: Jennifer Hogan, 907-586-7228.

SUPPLEMENTARY INFORMATION: NMFS manages the groundfish fishery in the GOA exclusive economic zone according to the Fishery Management Plan for Groundfish of the Gulf of Alaska (FMP) prepared by the North Pacific Fishery Management Council under authority of the Magnuson-Stevens Fishery Conservation and Management Act. Regulations governing fishing by U.S. vessels in accordance with the FMP appear at subpart H of 50 CFR part 600 and 50 CFR part 679.

NMFS prohibited directed fishing for pollock in Statistical Area 630 in the GOA under § 679.20(d)(1)(iii) on August 28, 2007 (72 FR 48946, August 27, 2007). NMFS reopened the pollock fishery in Statistical Area 630 in the GOA for 72 hours on September 15, 2007 (72 FR 53169, September 18, 2007). NMFS reopened the pollock fishery in Statistical Area 630 in the GOA for 48 hours on September 21, 2007. NMFS prohibited directed fishing for pollock on September 23, 2007.

NMFS has determined that as of September 24, 2007 approximately 1,590 mt remain in the C season allowance of the 2007 pollock directed fishing allowance in Statistical Area 630 in the GOA. Therefore, in accordance with § 679.25(a)(1)(i), (a)(2)(i)(C) and (a)(2)(iii)(D), and to fully utilize the C season allowance of the 2007 TAC of pollock in Statistical Area 630 in the GOA, NMFS is terminating the previous closure and is reopening directed fishing for pollock in Statistical Area 630 in the GOA.

Classification

This action responds to the best available information recently obtained from the fishery. The Assistant Administrator for Fisheries, NOAA (AA), finds good cause to waive the requirement to provide prior notice and opportunity for public comment pursuant to the authority set forth at 5 U.S.C. 553(b)(B) as such requirement is impracticable and contrary to the public interest. This requirement is impracticable and contrary to the public interest as it would prevent NMFS from responding to the most recent fisheries data in a timely fashion and would delay the opening of pollock in Statistical Area 630 in the GOA. NMFS was unable to publish a notice providing time for public comment because the most recent, relevant data only became available as of September 24, 2007.

The AA also finds good cause to waive the 30-day delay in the effective date of this action under 5 U.S.C. 553(d)(3). This finding is based upon the reasons provided above for waiver of prior notice and opportunity for public comment.

Without this inseason adjustment, NMFS could not allow the fishery for pollock in Statistical Area 630 in the GOA to be harvested in an expedient manner and in accordance with the regulatory schedule. Under § 679.25(c)(2), interested persons are invited to submit written comments on this action (see ADDRESSES) until October 10, 2007.

This action is required by § 679.25 and § 679.20 and is exempt from review under Executive Order 12866.

Authority: 16 U.S.C. 1801 et seq.

Dated: September 25, 2007.
James P. Burgess,
Acting Director, Office of Sustainable Fisheries, National Marine Fisheries Service.

[FR Doc. 07-4798 Filed 9-25-07; 2:07 pm]

BILLING CODE 3510-22-S